DEPARTMENT OF COMMERCE

International Trade Administration

[A-351-838, A-331-802, A-533-840, A-570-893, A-552-802, A-549-822]

Certain Frozen Warmwater Shrimp from Brazil, Ecuador, India, the People's Republic of China, the Socialist Republic of Vietnam, and Thailand; Notice of Extension of Time Limit for Final Results of Administrative and New Shipper Reviews

AGENCY: Import Administration, International Trade Administration, Department of Commerce.

EFFECTIVE DATE: May 15, 2007.

FOR FURTHER INFORMATION CONTACT: Kate Johnson at (202) 482-4929 (Brazil), David Goldberger at (202) 482-4136 (Ecuador), Elizabeth Eastwood at (202) 482-3874 (India), Christopher Riker at (202) 482-3441 (People's Republic of China), Alex Villanueva at (202) 482-3208 (Socialist Republic of Vietnam) and Irina Itkin at (202) 482-0656 (Thailand), AD/CVD Operations, Offices 2 and 9, Import Administration, International Trade Administration, U.S. Department of Commerce, 14th Street and Constitution Avenue, N.W., Washington, D.C. 20230.

SUPPLEMENTARY INFORMATION:

Background

On March 9, 2007, the Department of Commerce (“Department”) published in the Federal Register the preliminary results of the first antidumping duty administrative reviews of certain frozen warmwater shrimp from Brazil, Ecuador, India, the People's Republic of China, the Socialist Republic of Vietnam, and Thailand, covering the period August 4, 2004, through January 31, 2006.¹ See Certain Frozen Warmwater Shrimp from Brazil: Preliminary Results and Partial Rescission of Antidumping Duty Administrative Review, 72 FR 10680 (March 9, 2007); Certain Frozen Warmwater Shrimp from Ecuador: Preliminary Results and Partial Rescission of Antidumping Duty Administrative Review, 72 FR 10698 (March 9, 2007); Certain Frozen Warmwater Shrimp from India: Preliminary Results and Partial Rescission of Antidumping Duty Administrative Review, 72 FR 10658 (March 9, 2007); Certain Frozen Warmwater Shrimp from the People's Republic of China: Preliminary Results and Partial Rescission of the 2004/2006 Administrative Review and Preliminary Intent to Rescind 2004/2006 New Shipper Review, 72 FR 10645 (March 9, 2007); Certain Frozen Warmwater Shrimp from the Socialist Republic of Vietnam: Preliminary Results of the First Administrative Review and New Shipper Review, 72 FR 10689 (March 9, 2007); and Certain Frozen Warmwater Shrimp from Thailand: Preliminary Results and Partial Rescission of Antidumping Duty Administrative Review, 72 FR 10669 (March 9, 2007). The final results for these administrative and aligned new shipper reviews are currently due no later than July 9, 2007, the next business day after 120 days from the date of publication of the preliminary results of review.

¹ Aligned with the above-referenced administrative reviews are the new shipper reviews of Hai Li Aquatic Co., Ltd. Zhao An, Fujian (People's Republic of China) and Grobest & I-Mei Industrial (Vietnam) Co., Ltd. (Socialist Republic of Vietnam).

Extension of Time Limit for the Final Results

Section 751(a)(3)(A) of the Tariff Act of 1930, as amended (“the Act”), requires the Department to issue the final results of an administrative review within 120 days after the date on which the preliminary results are published. If it is not practicable to complete the review within that time period, section 751(a)(3)(A) of the Act allows the Department to extend the deadline for the final results to a maximum of 180 days.

The Department requires additional time to complete these reviews in order to properly consider the numerous and complex issues raised by interested parties in their case briefs. Thus, it is not practicable to complete these reviews within the original time limit. Therefore, the Department is extending the time limit for completion of the final results of these reviews by 60 days, in accordance with section 751(a)(3)(A) of the Act. The final results are now due no later than September 5, 2007.

We are issuing and publishing this notice in accordance with sections 751(a)(1) and 777(i)(1) of the Act.

Dated: May 9, 2007.
Stephen J. Claeys,
Deputy Assistant Secretary for Import Administration.

[FR Doc. E7-9328 Filed 5-14-07; 8:45 am]

BILLING CODE 3510-DS-S